DEPARTMENT OF HOMELAND SECURITY

Bureau of Customs and Border Protection

Cancellation of Customs Broker License Due to Death of the License Holder

AGENCY: Bureau of Customs and Border Protection, U.S. Department of Homeland Security.

ACTION: General notice.

SUMMARY: Notice is hereby given that, pursuant to 19 CFR 111.51(a), the following individual Customs broker license and any and all associated permits have been cancelled due to the death of the broker:

Name | License # | Port name
Jose A. Roman | 04860 | San Juan.
David Michael Cline | 17369 | Los Angeles.
Roger Mann | 14963 | Los Angeles.
Oscar Zaldivar | 15660 | Los Angeles.
Harvey Yaffe | 02484 | New Orleans.

Dated: August 20, 2003.
Jayson P. Ahern,
Assistant Commissioner, Office of Field Operations.

[FR Doc. 03-22064 Filed 8-27-03; 8:45 am]

BILLING CODE 4820-02-P